NATIONAL SCIENCE FOUNDATION

Notice of Permit Modification Received Under the Antarctic Conservation Act of 1978

AGENCY: National Science Foundation.

ACTION: Notice of Permit Modification Request Received and Permit Issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Public Law 95-541, 45 CFR 671), as amended by the Antarctic Science, Tourism and Conservation Act of 1996, has developed regulations for the establishment of a permit system for various activities in Antarctica and designation of certain animals and certain geographic areas a requiring special protection.

1. NSF issued a permit (ACA 2018-025) to Bill Davis, VP Operations, Quark Expeditions Inc., on November 24, 2017. Under that permit, Quark Expeditions is permitted to conduct waste management associated with the operation and activities of multiple tour vessels in the Antarctic Peninsula region. Activities including shore excursions by Zodiac, kayaking, day paddling, stand-up paddle boarding, polar plunges, cross-country skiing, ice climbing and mountaineering, downhill skiing, and vessel-supported short overnight stays (camping) may be conducted on selected voyages. The permit holder may also operate a small, battery-operated remotely piloted aircraft system (RPAS) consisting, in part, of a quadcopter equipped with a camera to collect footage for commercial and educational purposes. The permit expires March 31, 2022.

On August 27, 2019 (revised November 3, 2019), Quark Expeditions provided NSF an update based on activities planned for the 2019-2020 field season. The activities are the same or similar as those detailed in the original permit. Allison Kean now holds the position of Operations Manager and is the primary contact for the permit holder. The Environmental Officer has reviewed the modification request and has determined that the amendment is not a material change to the permit, and it will have a less than a minor or transitory impact.

Dates of Permitted Activities: November 4, 2019-March 31, 2022.

The permit modification was issued on November 4, 2019.

2. NSF issued a permit (ACA 2016-020) to Laura K.O. Smith, Owner, Operator Quixote Expeditions, on December 23, 2015. The issued permit allows the permit holder to conduct waste management activities associated with the operation of the “Ocean Tramp,” a reinforced ketch rigged sailing yacht in the Antarctic Peninsula region. Activities to be conducted by Quixote include: passenger landings, hiking, photography, wildlife viewing, and possible station visits.

A recent modification to this permit, dated November 22, 2017, permitted coastal camping activities in select locations and resupply of fresh food to the Quixote Expeditions vessel as part of fly/cruise operations. Another modification, dated November 6, 2018, allowed the permit holder to add a second vessel to support Quixote Expeditions activities, to conduct ship-to-ship fuel transfers, to release comminuted food waste (excepting poultry) at sea, and to operate a remotely piloted aircraft for educational and commercial purposes.

On October 3, 2019, the permit holder submitted an update of provided NSF an update based on activities planned for the 2019-2020 field season. Quixote's activities are similar as those detailed in the original permit and earlier modifications, excepting the support of different research projects. Estimates for the waste generated by this season's activities were provided in the update. The Environmental Officer has reviewed the modification request and has determined that the amendment is not a material change to the permit, and it will have a less than a minor or transitory impact.

Dates of Permitted Activities: November 20, 2019-February 6, 2021.

The permit modification was issued on November 20, 2019.

3. NSF issued a permit (ACA 2019-012) Conrad Combrink, Senior Vice President, Strategic Development Expeditions and Experiences, Silversea Cruises, Ltd., for waste management activities associated with operating remotely piloted aircraft systems (RPAS). Silversea Cruises engages experienced pilots to fly small, battery-operated, remotely controlled quadcopter equipped with cameras to capture aerial footage for commercial and educational uses.

On September 18, 2019, Bill Davis, Vice President, Expeditions Operations and Development, Silversea Cruises, Ltd., provided NSF an update based on activities planned for the 2019-2020 field season. Silversea's activities are the same or similar as those detailed in the original permit. The Environmental Officer has reviewed the modification request and has determined that the amendment is not a material change to the permit, and it will have a less than a minor or transitory impact.

Dates of Permitted Activities: November 20, 2019-March 30, 2022.

The permit modification was issued on November 20, 2019.

Erika N. Davis,
Program Specialist, Office of Polar Programs.

[FR Doc. 2020-16604 Filed 7-30-20; 8:45 am]

BILLING CODE 7555-01-P